NUCLEAR REGULATORY COMMISSION

Peer Review Committee for Source Term Modeling; Notice of Meeting

The Peer Review Committee For Source Term Modeling will hold a closed meeting on October 29-31, 2003, at 11545 Rockville Pike, Rockville, Maryland.

The entire meeting will be closed to public attendance to protect information classified as national security information pursuant to 5 U.S.C. 552b(c)(1).

The agenda for the subject meeting shall be as follows:

Wednesday October 29 through Friday, October 31, 2003—8:30 a.m. until the conclusion of business.

The Committee will review Sandia National Laboratories (SNL) activities and aid SNL in development of guidance documents for estimating source terms resulting from sabotage attacks on radioactive material sources other than spent nuclear fuel. The guidance document will assist the NRC in evaluations of the impact of specific terrorist activities targeted at a range of radioactive materials.

This meeting is being held with less than the required 15 days notice in order to accommodate the travel arrangements of a number of the members attending. The meeting is closed and its short notice will not effect public participation.

Further information contact: Andrew L. Bates, (telephone 301-415-1963) or Dr. Charles G. Interrante (telephone 301-415-3967) between 7:30 a.m. and 4:15 p.m. (ET).

Dated: October 20, 2003.
Andrew L. Bates,
Advisory Committee Management Officer.

[FR Doc. 03-27010 Filed 10-24-03; 8:45 am]

BILLING CODE 7590-01-P